DEPARTMENT OF COMMERCE

National Oceanic and Atmospheric Administration

[I.D. 052305B]

Mid-Atlantic Fishery Management Council (MAFMC); Meetings

AGENCY: National Marine Fisheries Service (NMFS), National Oceanic and Atmospheric Administration (NOAA), Commerce.

ACTION: Notice; public meetings.

SUMMARY: The Mid-Atlantic Fishery Management Council (Council) and its Atlantic Mackerel, Squid, Butterfish Committee; its Tilefish Committee; its Ecosystems Committee; and, its Executive Committee will hold public meetings.

DATES: The meetings will be held on Tuesday, June 14, 2005, through Thursday, June 16, 2005. For specific dates, times, and agendas, see SUPPLEMENTARY INFORMATION.

ADDRESSES: Meeting address: This meeting will be at the Wyndham Hotel, 700 King Street, Wilmington, DE 19801; telephone: 302-655-0400.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: Agenda items for the Council's committees and the Council itself are: on Tuesday, June 14, 2005, from 10 a.m. to 1 p.m.; the Atlantic Mackerel, Squid, and Butterfish Committee will meet to review the Monitoring Committee's recommendations for 2006 quota levels and associated management measures, and develop recommendations for 2006 quota specifications and associated management measures for Council consideration and action. The Tilefish Committee and its advisors will meet from 2 p.m. to 5 p.m., to review and discuss comments received during the scoping process, review and discuss Amendment 1 options paper, and select management measures for inclusion in the Draft Environmental Impact Statement (DEIS) in support of Amendment 1. On Wednesday, June 15, the Council will convene from 8:30 a.m. to 10:30 a.m., to review the Atlantic Mackerel, Squid, and Butterfish Committee's recommendations and develop and adopt 2006 quota specifications and associated management measures; from 10:30 a.m. to 12 noon, the Council will approve the May Council meeting minutes and action items from the May Council meeting. The Council will also hear organizational and liaison reports, the Executive Director's report, and a report on the status of the MAFMC's FMPs. From 1 p.m. to 3 p.m., the Council will hold its first meeting for Framework 6 to the Summer Flounder, Scup, and Black Sea Bass FMP to review options regarding sub-regionalization of state jurisdictions for the recreational fishery and utilization of multiple years for data analyses, and review and address compatibility with ASMFC's Addendum 17; from 3 p.m. to 3:15 p.m., the Council will approve Framework 1 to the Spiny Dogfish FMP for submission to the Secretary; and, the Ecosystems Committee will meet from 3:15 p.m. to 5 p.m., to review draft background information for the public meeting document. On Thursday, June 16, the Executive Committee will meet from 8 a.m. to 9 a.m., to review the Statement of Operating Practices and Procedures (SOPP) for needed changes; the Council will meet from 9 a.m. to 11:30 a.m., to develop and adopt multi-year quota specifications and associated management measures for surfclams and ocean quahogs; and at 11:30 a.m., will hear Committee reports, and entertain any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council(s intent to take final actions to address such emergencies.

Special Accommodations

This meeting is physically accessible to people with disabilities. Requests for sign language interpretation or other auxiliary aids should be directed to Kathy Collins (302-674-2331) at least 5 days prior to the meeting date.

Dated: May 24, 2005.
Emily Menashes,
Acting Director, Office of Sustainable Fisheries, National Marine Fisheries Service.

[FR Doc. E5-2697 Filed 5-26-05; 8:45 am]

BILLING CODE 3510-22-S